INTERNATIONAL TRADE COMMISSION

Sunshine Act Meeting

AGENCY HOLDING THE MEETING: United States International Trade Commission.

TIME AND DATE: August 14, 2000 at 11:00 a.m.

PLACE: Room 101, 500 E Street S.W., Washington, DC 20436, Telephone: (202) 205-2000.

STATUS: Open to the public.

MATTERS TO BE CONSIDERED:

1. Agenda for future meeting: none.

2. Minutes.

3. Ratification List.

4. Inv. Nos. 731-TA-872-883 (Preliminary) (Certain Steel Concrete Reinforcing Bars from Austria, Belarus, China, Indonesia, Japan, Korea, Latvia, Moldova, Poland, Russia, Ukraine, and Venezuela)—briefing and vote. (The Commission is currently scheduled to transmit its determination to the Secretary of Commerce on August 14, 2000; Commissioners' opinions are currently scheduled to be transmitted to the Secretary of Commerce on August 21, 2000.)

5. Outstanding action jackets:

1. Document No. EC-00-013: Approval of final report in Inv. No. 332-409 (The Impact on the U.S. Economy of Including the United Kingdom in a Free Trade Agreement with the United States, Canada, and Mexico).

In accordance with Commission policy, subject matter listed above, not disposed of at the scheduled meeting, may be carried over to the agenda of the following meeting.

By order of the Commission.
Issued: August 2, 2000.
Donna R. Koehnke,
Secretary.

[FR Doc. 00-20112 Filed 8-7-00; 11:08 am]

BILLING CODE 7020-02-P